DEPARTMENT OF TRANSPORTATION

National Highway Traffic Safety Administration

[Docket No. NHTSA-2008-0052]

Decision that Certain Nonconforming Motor Vehicles are Eligible for Importation

AGENCY: National Highway Traffic Safety Administration (NHTSA), Department of Transportation.

ACTION: Notice of decision by NHTSA that certain nonconforming motor vehicles are eligible for importation.

SUMMARY: This document announces decisions by NHTSA that certain motor vehicles not originally manufactured to comply with all applicable Federal motor vehicle safety standards (FMVSS) are eligible for importation into the United States because they are substantially similar to vehicles originally manufactured for importation into and/or sale in the United States and certified by their manufacturers as complying with the safety standards, and they are capable of being readily altered to conform to the standards or because they have safety features that comply with, or are capable of being altered to comply with, all applicable FMVSS.

DATES: These decisions became effective on the dates specified in Annex A.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and/or sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions. No substantive comments were received in response to these notices. Based on its review of the information submitted by the petitioners, NHTSA has decided to grant the petitions.

Vehicle Eligibility Number for Subject Vehicles

The importer of a vehicle admissible under any final decision must indicate on the form HS-7 accompanying entry the appropriate vehicle eligibility number indicating that the vehicle is eligible for entry. Vehicle eligibility numbers assigned to vehicles admissible under this decision are specified in Annex A.

Final Decision

Accordingly, on the basis of the foregoing, NHTSA hereby decides that each motor vehicle listed in Annex A to this notice, which was not originally manufactured to comply with all applicable FMVSS, is either (1) substantially similar to a motor vehicle manufactured for importation into and/or sale in the United States, and certified under 49 U.S.C. 30115, as specified in Annex A, and is capable of being readily altered to conform to all applicable FMVSS or (2) has safety features that comply with, or are capable of being altered to comply with, all applicable Federal motor vehicle safety standards.

Authority: 49 U.S.C. 30141(a)(1)(A), (a)(1)(B) and (b)(1); 49 CFR 593.8; delegations of authority at 49 CFR 1.50 and 501.8.

Issued on: March 19, 2008.
Claude H. Harris,
Director, Office of Vehicle Safety Compliance.

Annex A

Nonconforming Motor Vehicles Decided to be Eligible for Importation

1. Docket No. NHTSA-2007-28262

Nonconforming Vehicles: 2005 Honda CR-V Multipurpose Passenger Vehicle.

Substantially Similar U.S. Certified Vehicles: 2005 Honda CR-V Multipurpose Passenger Vehicle.

Notice of Petition Published at: 72 FR 30428 (May 31, 2007).

Vehicle Eligibility Number: VSP-489 (effective date July 11, 2007).

2. Docket No. NHTSA-2007-28261

Nonconforming Vehicles: 1986-1987 Volkswagen Transporter Multipurpose Passenger Vehicle.

Substantially Similar U.S. Certified Vehicles: 1986-1987 Volkswagen Vanagon Multipurpose Passenger Vehicle.

Notice of Petition Published at: 72 FR 30424 (May 31, 2007).

Vehicle Eligibility Number: VSP-490 (effective date July 11, 2007).

3. Docket No. NHTSA-2007-28263

Nonconforming Vehicles: 2006 Harley Davidson FX, FL, & XL Motorcycle

Substantially Similar U.S. Certified Vehicles: 2006 Harley Davidson FX, FL, & XL Motorcycle.

Notice of Petition Published at: 72 FR 30425 (May 31, 2007).

Vehicle Eligibility Number: VSP-491 (effective date July 11, 2007).

4. Docket No. NHTSA-2007-28264

Nonconforming Vehicles: 2003 Kawasaki VN1500-P1/P2 Motorcycle.

Substantially Similar U.S. Certified Vehicles: 2003 Kawasaki VN1500-P1/P2 Motorcycle.

Notice of Petition Published at: 72 FR 30429 (May 31, 2007).

Vehicle Eligibility Number: VSP-492 (effective date July 11, 2007).

5. Docket No. NHTSA-2007-28531

Nonconforming Vehicles: 2004 Hyundai XG350 Passenger Car.

Substantially Similar U.S. Certified Vehicles: 2004 Hyundai XG350 Passenger Car.

Notice of Petition Published at: 72 FR 35541 (June 28, 2007).

Vehicle Eligibility Number: VSP-494 (effective date August 14, 2007).

6. Docket No. NHTSA-2007-0006

Nonconforming Vehicles: 2000-2001 Moto Guzzi California Motorcycles.

Substantially Similar U.S. Certified Vehicles: 2000-2001 Moto Guzzi California Motorcycles.

Notice of Petition Published at: 72 FR 59591 (October 22, 2007).

Vehicle Eligibility Number: VSP-495 (effective date November 28, 2007).

7. Docket No. NHTSA-2007-0005

Nonconforming Vehicles: 2004-2005 Vespa LX and PX Model Motorcycles.

Substantially Similar U.S. Certified Vehicles: 2004-2005 Vespa LX and PX Model Motorcycles.

Notice of Petition Published at: 72 FR 59588 (October 22, 2007).

Vehicle Eligibility Number: VSP-496 (effective date November 28, 2007).

8. Docket No. NHTSA-2007-0004

Nonconforming Vehicles: 1999-2007 Yamaha Drag Star 1100 Motorcycles.

Substantially Similar U.S. Certified Vehicles: 1999-2007 Yamaha V Star 1100 Motorcycles.

Notice of Petition Published at: 72 FR 59586 (October 22, 2007).

Vehicle Eligibility Number: VSP-497 (effective date November 28, 2007).

9. Docket No. NHTSA-2007-0007

Nonconforming Vehicles: 1988 Ducati 851 Motorcycles.

Substantially Similar U.S. Certified Vehicles: 1988 Ducati 851 Motorcycles.

Notice of Petition Published at: 72 FR 59584 (October 22, 2007).

Vehicle Eligibility Number: VSP-498 (effective date November 28, 2007).

10. Docket No. NHTSA-2007-0009

Nonconforming Vehicles: 2007 Harley Davidson FXSTC Soft Tail Custom Motorcycles.

Substantially Similar U.S. Certified Vehicles: 2007 Harley Davidson FXSTC Soft Tail Custom Motorcycles.

Notice of Petition Published at: 72 FR 59590 (October 22, 2007).

Vehicle Eligibility Number: VSP-499 (effective date November 28, 2007).

11. Docket No. NHTSA-2007-0008

Nonconforming Vehicles: 1993 Ducati 888 Motorcycles.

Substantially Similar U.S. Certified Vehicles: 1993 Ducati 888 Motorcycles.

Notice of Petition Published at: 72 FR 59589 (October 22, 2007).

Vehicle Eligibility Number: VSP-500 (effective date November 28, 2007).

12. Docket No. NHTSA-2007-0036

Nonconforming Vehicles: 1992 Alfa Romeo Spyder Passenger Cars.

Substantially Similar U.S. Certified Vehicles: 1992 Alfa Romeo Spyder Passenger Cars.

Notice of Petition Published at: 72 FR 65833 (November 23, 2007).

Vehicle Eligibility Number: VSP-503 (effective date January 16, 2008).

13. Docket No. NHTSA-2007-0021

Nonconforming Vehicles: 2000-2003 BMW C1 Motorcycles. Because there are no substantially similar U.S.-certified version 2000-2003 BMW C1 Motorcycles, the petitioner sought import eligibility under 49 U.S.C. 30141(a)(1)(B).

Notice of Petition Published at: 72 FR 63652 (November 9, 2007).

Vehicle Eligibility Number: VCP-40 (effective date January 16, 2008).

[FR Doc. E8-6074 Filed 3-24-08; 8:45 am]

BILLING CODE 4910-59-P